DEPARTMENT OF AGRICULTURE

Forest Service

Santa Fe National Forest; New Mexico; Geothermal Leasing

AGENCY: Forest Service, USDA.

ACTION: Notice of intent to prepare an environmental impact statement.

SUMMARY: The Santa Fe National Forest will prepare an environmental impact statement to analyze the potential effects of geothermal development on 194,910 acres. The decision will be whether to proceed with geothermal leasing and, if so, under what stipulations.

DATES: Comments concerning the scope of the analysis must be received by June 12, 2015. The draft environmental impact statement is expected in January, 2016 and the final environmental impact statement is expected in October, 2016.

ADDRESSES: Send written comments to Geothermal EIS Project, Santa Fe National Forest, 11 Forest Lane, Santa Fe, NM 87508. Comments may also be sent via email to comments-southwestern-santafe@fs.fed.us, or via facsimile to 505-438-5390.

FOR FURTHER INFORMATION CONTACT: Larry Gore, Forest Geologist, via email at ldgore@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The Bureau of Land Management (BLM) has received expressions of interest in leasing approximately 46,000 acres of Santa Fe National Forest (SFNF) lands for exploration and development for geothermal energy production. The SFNF must decide whether these lands are available for leasing by the BLM and, if so, under what stipulations for protection of surface resources. The U.S. Geological Survey has identified approximately 194,000 acres of SFNF lands with significant geothermal potential. While the current expressed interest is for only a portion of this area, the entire area plus an additional approximately 900 acres for power transmission will be considered in the analysis in the event of future similar interest.

Proposed Action

Approximately 139,329 acres of the SFNF lands within the project area would be allocated as open to geothermal leasing subject to existing laws, regulations, formal orders and stipulations attached to the lease form, and the terms and conditions of the standard lease form. Stipulations proposed include: no surface occupancy; controlled surface use; and timing limitations.

Lead and Cooperating Agencies

The Forest Service, Santa Fe National Forest, is the lead agency and the Bureau of Land Management, New Mexico State Office, is a cooperating agency in this analysis.

Responsible Official

The responsible official is the Forest Supervisor of the Santa Fe National Forest.

Nature of Decision To Be Made

The decision will be whether to implement the action as proposed, implement an alternative which allows leasing under different stipulations or conditions, or not to implement the action. If the decision is to authorize leasing, that decision with associated stipulations and conditions will become an amendment to the Santa Fe National Forest Plan or will become a part of the Revised Forest Plan.

Scoping Process

This notice of intent initiates the scoping process, which guides the development of the environmental impact statement. Two public meetings will be held to discuss the proposed action and solicit public input. One meeting will be held in Santa Fe, NM and one in the Cuba, NM area. Time and location of these meetings will be announced and posted on the forest's Web site at: http://www.fs.usda.gov/santafe/alerts-notices. The complete Proposed Action, with accompanying maps and descriptions of proposed stipulations, will also be posted at that Web site at: http://www.fs.usda.gov/projects/santafe/landmanagement/projects.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: May 4, 2015.
Maria T. Garcia,
Forest Supervisor.

[FR Doc. 2015-11495 Filed 5-12-15; 8:45 am]

BILLING CODE 3410-11-P